DEPARTMENT OF COMMERCE

National Institute of Standards and Technology

[Docket Number: 100311133-0142-01]

NIST Summer Institute for Middle School Science Teachers; Availability of Funds

AGENCY: National Institute of Standards and Technology, Commerce.

ACTION: Notice.

SUMMARY: The National Institute of Standards and Technology (NIST) announces the availability of Federal assistance for educational institutions to provide limited support for middle school science teachers to attend the NIST Summer Institute for Middle School Science Teachers. Teachers from qualified applicants should be involved in teaching areas of science, technology, engineering and mathematics (STEM) at the middle school level (grades 6-8), including, but not limited to, earth science, physical science, chemistry, physics, and/or biology. This program responds to a need for these targeted teachers to receive instruction and activities that will encourage them to inspire students to pursue careers in STEM fields.

DATES: Proposals must be received at the address listed below no later than 5 p.m. Eastern Time on April 26, 2010.

ADDRESSES: Hard copies of proposals must be submitted to: Dr. Susan Heller-Zeisler, Office of International and Academic Affairs, National Institute of Standards and Technology, 100 Bureau Drive, Mailstop 8190, Gaithersburg, Maryland 20899-1090. Electronic submissions of full proposals may be uploaded to http://www.Grants.gov.

FOR FURTHER INFORMATION CONTACT: A paper copy of the Federal Funding Opportunity (FFO) announcement may be obtained by calling (301) 975-3111. Technical questions should be addressed to: Dr. Susan F. Heller-Zeisler at the address listed in the ADDRESSES section above, or at Tel: (301) 975-3111; E-mail: szeisler@nist.gov. Grants Administration questions should be addressed to: Grants and Agreements Management Division; National Institute of Standards and Technology; 100 Bureau Drive, Stop 1650; Gaithersburg, MD 20899-1650; Tel: (301) 975-6328. For assistance with using Grants.gov contact support@grants.gov or call 800-518-4726.

SUPPLEMENTARY INFORMATION:

Statutory Authority: 15 U.S.C. 278g-2a, 15 U.S.C. 272(b)(4)

Catalog of Federal Domestic Assistance Name and Number Catalog of Federal Domestic Assistance (CFDA) Number: 11.609.

Program Description: The National Institute of Standards and Technology (NIST) is soliciting applications from qualified public school districts or accredited private educational institutions that are teaching students in the areas of Science, Technology, Engineering and Mathematics (STEM) at the middle school level (Grades 6-8). This includes, but is not limited to, earth science, physical science, chemistry, physics and/or biology. NIST will award funding that will support the attendance of middle school teachers in the NIST Summer Institute for Middle School Science Teachers (NIST SI), to be held July 6-19, 2010 to be held at the NIST Gaithersburg, Maryland, campus. Please see additional information about this program in the corresponding Federal Funding Opportunity (FFO).

Electronic access: Applicants are strongly encouraged to read the Federal Funding Opportunity (FFO) available at http://www.grants.gov for complete information about this program, all program requirements, and instructions for applying by paper or electronically.

Funding Availability: NIST anticipates spending $40,000 this year for awards to support a total of twenty teachers to attend the NIST SI from July 6-19, 2010. Publication of this announcement does not oblige NIST or the Department of Commerce to award any specific project or to obligate any available funds.

Award start dates for new grants are expected to be June 25, 2010. NIST plans to fund the awards as cooperative agreements.

Eligibility: The NIST Summer Institute for Middle School Science Teachers grant program is open to public school districts and private educational institutions teaching at the middle school level. Such schools may offer instruction in general science fields including earth science, physical science, chemistry, physics, and/or biology. Participating teachers from the applicant school districts or private educational institutes must be U.S. citizens or permanent U.S. residents.

Teachers proposed within the applications for participation in the NIST SI must be employed for the 2010-2011 school year to teach middle school science or math (grades 6, 7, and/or 8) in a public or private school. The topics taught may include earth science, physical science, chemistry, physics, and/or biology.

Please note that no support will be offered for transportation or housing costs accrued by the participating teachers.

Cost Sharing or Matching: The NIST SI does not require any cost sharing or matching funds.

Review and Selection Process:

Upon receipt of an application submitted by an eligible institution, NIST will assign each teacher proposed for participation in the NIST SI an identification code without bias. NIST will fill the 20 available slots for the Summer Institute by randomly selecting from the assigned codes using a blind selection process. The amount of the grant awarded to an institution will be determined by the number of teachers who are selected from that institution's application.

The final selection of institutions and awarding of grants will be made by the NIST Grants Officer in Gaithersburg, Maryland, based on compliance with application requirements, as published in this notice, and applicable legal and regulatory requirements. Unsatisfactory performance on any previous Federal award may result in an application not being considered for funding. Applicants may be asked to provide supplemental information required by the agency prior to award. The decision of the Grants Officer is final. Applicants should allow up to 45 days processing time.

The decision of the Grants Officer is final.

The Department of Commerce Pre-Award Notification Requirements for Grants and Cooperative Agreements: The Department of Commerce Pre-Award Notification Requirements for Grants and Cooperative Agreements, which are contained in the Federal Register Notice of February 11, 2008 (73 FR 7696), are applicable to this notice. On the form SF-424 items 8.b. and 8.c., the applicant's 9-digit Employer/Taxpayer Identification Number (EIN/TIN) and 9-digit Dun and Bradstreet Data Universal Numbering System (DUNS) number must be consistent with the information on the Central Contractor Registration (CCR) (http://www.ccr.gov) and Automated Standard Application for Payment System (ASAP). For complex organizations with multiple EIN/TIN and DUNS numbers, the EIN/TIN and DUNS number MUST be the numbers for the applying organization. Organizations that provide incorrect/inconsistent EIN/TIN and DUNS numbers may experience significant delays in receiving funds if their proposal is selected for funding. Please confirm that the EIN/TIN and DUNS number are consistent with the information on the CCR and ASAP.

Use of NIST Intellectual Property: If the applicant anticipates using any NIST-owned intellectual property to carry out the work proposed, the applicant should identify such intellectual property. This information will be used to ensure that no NIST employee involved in the development of the intellectual property will participate in the review process for that competition. In addition, if the applicant intends to use NIST-owned intellectual property, the applicant must comply with all statutes and regulations governing the licensing of Federal government patents and inventions, described at 35 U.S.C. 200-212, 37 CFR part 401, 15 CFR 14.36, and in Section B.21 of the Department of Commerce Pre-Award Notification Requirements 73 FR 7696 (February 11, 2008). Questions about these requirements may be directed to the Office of the Chief Counsel for NIST, 301-975-2803.

Any use of NIST-owned intellectual property by a proposer is at the sole discretion of NIST and will be negotiated on a case-by-case basis if a project is deemed meritorious. The applicant should indicate within the statement of work whether it already has a license to use such intellectual property or whether it intends to seek one.

If any inventions made in whole or in part by a NIST employee arise in the course of an award made pursuant to this notice, the United States government may retain its ownership rights in any such invention. Licensing or other disposition of NIST's rights in such inventions will be determined solely by NIST, and include the possibility of NIST putting the intellectual property into the public domain.

Paperwork Reduction Act: The standard forms in the application kit involve a collection of information subject to the Paperwork Reduction Act. The use of Standard Forms 424, 424A, 424B, 424 (R&R), SF-LLL, and CD-346 have been approved by OMB under the respective Control Numbers 0348-0043, 0348-0044, 0348-0040, 4040-0001, 0348-0046, and 0605-0001.

Notwithstanding any other provision of the law, no person is required to respond to, nor shall any person be subject to a penalty for failure to comply with, a collection of information subject to the requirements of the Paperwork Reduction Act, unless that collection of information displays a currently valid OMB Control Number.

Research Projects Involving Human Subjects, Human Tissue, Data or Recordings Involving Human Subjects: Any proposal that includes research involving human subjects, human tissue, data or recordings involving human subjects must meet the requirements of the Common Rule for the Protection of Human Subjects, codified for the Department of Commerce at 15 CFR part 27. In addition, any proposal that includes research on these topics must be in compliance with any statutory requirements imposed upon the Department of Health and Human Services (DHHS) and other federal agencies regarding these topics, all regulatory policies and guidance adopted by DHHS, the Food and Drug Administration, and other Federal agencies on these topics, and all Presidential statements of policy on these topics.

NIST will accept the submission of human subjects protocols that have been approved by Institutional Review Boards (IRBs) possessing a current registration filed with DHHS and to be performed by institutions possessing a current registration filed with DHHS and to be performed by institutions possessing a current, valid Federal-wide Assurance (FWA) from DHHS. NIST will not issue a single project assurance (SPA) for any IRB reviewing any human subjects protocol proposed to NIST.

President Obama has issued Executive Order No. 13,505 (74 FR 10667, March 9, 2009), revoking previous Executive Orders and Presidential statements regarding the use of human embryonic stem cells in research. On July 30, 2009, President Obama issued a memorandum directing that agencies that support and conduct stem cell research adopt the “National Institutes of Health Guidelines for Human Stem Cell Research” (NIH Guidelines), which became effective on July 7, 2009, “to the fullest extent practicable in light of legal authorities and obligations.” On September 21, 2009, the Department of Commerce submitted to the Office of Management and Budget a statement of compliance with the NIH Guidelines. In accordance with the President's memorandum, the NIH Guidelines, and the Department of Commerce statement of compliance, NIST will support and conduct research using only human embryonic stem cell lines that have been approved by NIH in accordance with the NIH Guidelines and will review such research in accordance with the Common Rule and NIST implementing procedures, as appropriate. NIST will not support or conduct any type of research that the NIH Guidelines prohibit NIH from funding. NIST will follow any additional policies or guidance issued by the current Administration on this topic.

Research Projects Involving Vertebrate Animals: Any proposal that includes research involving vertebrate animals must be in compliance with the National Research Council's “Guide for the Care and Use of Laboratory Animals” which can be obtained from National Academy Press, 2101 Constitution Avenue, NW., Washington, DC 20055. In addition, such proposals must meet the requirements of the Animal Welfare Act (7 U.S.C. 2131 et seq.), 9 CFR parts 1, 2, and 3, and if appropriate, 21 CFR part 58. These regulations do not apply to proposed research using pre-existing images of animals or to research plans that do not include live animals that are being cared for, euthanized, or used by the project participants to accomplish research goals, teaching, or testing. These regulations also do not apply to obtaining animal materials from commercial processors of animal products or to animal cell lines or tissues from tissue banks.

Limitation of Liability: Funding for the programs listed in this notice is contingent upon the availability of Fiscal Year 2010 appropriations. The Department of Commerce and NIST will not be held responsible for application preparation costs. Publication of this announcement does not oblige NIST or the Department of Commerce to award any specific project or to obligate any available funds.

Executive Order 12866: This funding notice was determined to be not significant for purposes of Executive Order 12866.

Executive Order 13132 (Federalism): It has been determined that this notice does not contain policies with federalism implications as that term is defined in Executive Order 13132.

Executive Order 12372: Applications under this program are not subject to Executive Order 12372, “Intergovernmental Review of Federal Programs.”

Administrative Procedure Act/Regulatory Flexibility Act: Notice and comment are not required under the Administrative Procedure Act (5 U.S.C. 553) or any other law, for rules relating to public property, loans, grants, benefits or contracts (5 U.S.C. 553(a)). Because notice and comment are not required under 5 U.S.C. 553, or any other law, for rules relating to public property, loans, grants, benefits or contracts (5 U.S.C. 553(a)), a Regulatory Flexibility Analysis is not required and has not been prepared for this notice, 5 U.S.C. 601 et seq.

Dated: March 23, 2010.
Marc G. Stanley,
Acting Deputy Director.

[FR Doc. 2010-6749 Filed 3-25-10; 8:45 am]

BILLING CODE 3510-13-P